DEPARTMENT OF HOMELAND SECURITY

Federal Emergency Management Agency

44 CFR Part 67

[Docket ID FEMA-2011-0002; Internal Agency Docket No. FEMA-B-1229]

Proposed Flood Elevation Determinations

AGENCY: Federal Emergency Management Agency, DHS.

ACTION: Proposed rule; correction.

SUMMARY: On November 14, 2011, FEMA published in the Federal Register a proposed rule that contained an erroneous table. This document provides corrections to that table, to be used in lieu of the information published at 76 FR 70397. The table provided here represents the flooding sources, location of referenced elevations, effective and modified elevations, and communities affected for Sauk County, Wisconsin, and Incorporated Areas. Specifically, it addresses the following flooding sources: Baraboo River, Devil's Lake Tributary (backwater effects from Baraboo River), Hay Creek (backwater effects from Baraboo River), Little Baraboo River (backwater effects from Baraboo River), Narrows Creek (backwater effect from Baraboo River), Plum Creek (backwater effects from Baraboo River), and Seeley Creek (backwater effects from Baraboo River).

DATES: Comments are to be submitted on or before February 7, 2013.

ADDRESSES: You may submit comments, identified by Docket No. FEMA-B-1229, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 76 FR 70397, in the November 14, 2011, issue of the Federal Register, FEMA published a table under the authority of 44 CFR 67.4. The table, entitled “Sauk County, Wisconsin, and Incorporated Areas” addressed the flooding sources: Baraboo River, Devil's Lake Tributary (backwater effects from Baraboo River), Hay Creek (backwater effects from Baraboo River), Little Baraboo River (backwater effects from Baraboo River), Narrows Creek (backwater effect from Baraboo River), Plum Creek (backwater effects from Baraboo River), and Seeley Creek (backwater effects from Baraboo River). That table contained inaccurate information as to the location of referenced elevation, effective and modified elevation in feet, and/or communities affected for the Baraboo River. In this document, FEMA is publishing a table containing the accurate information, to address these prior errors. The information provided below should be used in lieu of that previously published.

Flooding source(s) | Location of referenced elevation ** | * Elevation in feet (NGVD) + Elevation in feet (NAVD) #Depth in feet above ground ‸ Elevation in meters (MSL): Effective | * Elevation in feet (NGVD) + Elevation in feet (NAVD) #Depth in feet above ground ‸ Elevation in meters (MSL): Modified | Communities affected
Sauk County, Wisconsin and Incorporated Areas
Baraboo River | At the Columbia County boundary | +802 | +804 | City of Baraboo, City of Reedsburg, Unincorporated Areas of Sauk County, Village of La Valle, Village of North Freedom, Village of Rock Springs, Village of West Baraboo
| At the Juneau County boundary | +910 | +912
Devil's Lake Tributary (backwater effects from Baraboo River) | At the Baraboo River confluence | +819 | +820 | City of Baraboo
| Approximately 780 feet downstream of Old Lake Road | +819 | +820
Hay Creek (backwater effects from Baraboo River) | Approximately 75 feet downstream of County Highway V | +881 | +882 | City of Reedsburg, Unincorporated Areas of Sauk County
| Approximately 1,860 feet upstream of County Highway V | +881 | +882
Little Baraboo River (backwater effects from Baraboo River) | At the Baraboo River confluence | +892 | +895 | Unincorpo­rated Areas of Sauk County, Village of La Valle
| Approximately 70 feet downstream of State Highway 58 | +892 | +895
Narrows Creek (backwater effects from Baraboo River) | At the Baraboo River confluence | +870 | +872 | Unincorporated Areas of Sauk County, Village of Rock Springs
| At the downstream side of State Highway 154 | +870 | +872
Plum Creek (backwater effects from Baraboo River) | At the Baraboo River confluence | +909 | +912 | Unincorpo­rated Areas of Sauk County
| Approximately 0.78 mile upstream of the Baraboo River confluence | +911 | +912
Seeley Creek (backwater effects from Baraboo River) | At the Baraboo River confluence | +864 | +865 | Unincorporated Areas of Sauk County
| Approximately 1,450 feet downstream of Freedom Road | +864 | +865
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Baraboo
Maps are available for inspection at City Hall, 135 4th Street, Baraboo, WI 53913.
City of Reedsburg
Maps are available for inspection at City Hall, 134 South Locust Street, Reedsburg, WI 53959.
Unincorporated Areas of Sauk County
Maps are available for inspection at West Square Building, 505 Broadway, Baraboo, WI 53913.
Village of La Valle
Maps are available for inspection at Village Hall, 103 West Main Street, La Valle, WI 53941.
Village of North Freedom
Maps are available for inspection at Village Hall, 103 North Maple Street, North Freedom, WI 53951.
Village of Rock Springs
Maps are available for inspection at Village Hall, 101 1st Street, Rock Springs, WI 53961.
Village of West Baraboo
Maps are available for inspection at Village Hall, 500 Cedar Street, Baraboo, WI 53913.

(Catalog of Federal Domestic Assistance No. 97.022, “Flood Insurance.”)

Dated: October 23, 2012.
James A. Walke,
Acting Deputy Associate Administrator for Mitigation, Department of Homeland Security, Federal Emergency Management Agency.

[FR Doc. 2012-27367 Filed 11-8-12; 8:45 am]

BILLING CODE 9110-12-P